DEPARTMENT OF COMMERCE

National Oceanic and Atmospheric Administration

[I.D. 052003A]

Endangered Species; File No. 1352

AGENCY: National Marine Fisheries Service (NMFS), National Oceanic and Atmospheric Administration (NOAA), Commerce.

ACTION: Issuance of permit.

SUMMARY: Notice is hereby given that Dr. Colin Simpfendorfer, Mote Marine Laboratory, 1600 Ken Thompson Parkway, Sarasota, Florida 34236 has been issued a permit to take smalltooth sawfish (Pristis pectinata) for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376; and,

Southeast Region, NMFS, 9721 Executive Center Drive North, St. Petersburg, FL 33702-2432; phone (727)570-5301; fax (727)570-5320.

FOR FURTHER INFORMATION CONTACT: Jennifer Jefferies or Ruth Johnson, (301)713-2289.

SUPPLEMENTARY INFORMATION: On October 25, 2001, notice was published in the Federal Register (66 FR 53983) that a request for a scientific research permit to take smalltooth sawfish had been submitted by Dr. Colin Simpfendorfer, Mote Marine Laboratory. The requested permit has been issued under the authority of the Endangered Species Act of 1973, as amended (ESA; 16 U.S.C. 1531 et seq.) and the regulations governing the taking, importing, and exporting of endangered and threatened species (50 CFR parts 222-226).

Dr. Simpfendorfer is authorized to take endangered smalltooth sawfish by capture using longline, rod and reel, set lines, gillnets, and beach seines; tagging with rototags, plastic headed dart tags, PIT tags, acoustic tags, PAT tags, and SPOT tags; and the collecting of tissue biopsies. This is to take place on the coast of central and southern Florida over 5 years. The purpose of the proposed research is to compile data on biology, distribution, and abundance of smalltooth sawfish through tracking and genetic sampling in order to facilitate the recovery of the species.

Issuance of this permit, as required by the ESA, was based on a finding that such permit (1) was applied for in good faith, (2) will not operate to the disadvantage of the endangered species which is the subject of this permit, and (3) is consistent with the purposes and policies set forth in section 2 of the ESA.

Dated: May 23, 2003.
Stephen L. Leathery,
Chief, Permits, Conservation and Education Division, Office of Protected Resources, National Marine Fisheries Service.

[FR Doc. 03-13557 Filed 5-29-03; 8:45 am]

BILLING CODE 3510-22-S